DEPARTMENT OF HEALTH AND HUMAN SERVICES

National Institutes of Health

Submission for OMB Review; 30-Day Comment Request: National Institute on Drug Abuse (NIDA) Summer Research Internship Program

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Dr. Wilson Compton, Acting Director, Office of Research Training, Diversity and Disparities, 3WFN, 11601 Landsdown St., Room 09D18, North Bethesda, Maryland, 20892 or call non-toll-free number (301) 443-6480 or Email your request, including your address, to: Wilson.Compton@nih.gov.

SUPPLEMENTARY INFORMATION: This proposed information collection was previously published in the Federal Register on October 21, 2022, page 64068 (87 FR 64068) and allowed 60 days for public comment. No public comments were received. The purpose of this notice is to allow an additional 30 days for public comment.

The National Institute on Drug Abuse (NIDA), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: National Institute on Drug Abuse (NIDA) Summer Research Internship Program—0925-0738—expiration date, 12/31/2022, EXTENSION, National Institute on Drug Abuse (NIDA), National Institutes of Health (NIH).

Need and Use of Information Collection: The purpose of the proposed information is for the selection of interns for the continuing NIDA Summer Research Internship Program. This request is to allow NIDA to collect information from applicants in order to meet the goals of the program and IC mission. Applicant eligibility for this program is open to those 18 and over in the year of application per NIH policy document 2022 Summer Research Internship Program (NIDA-SRIP) Policy. NIDA will request clearance for any additional forms should new programs be introduced in the future.

The information ensures that students applying to this program meet basic eligibility requirements; indicates their interest in substance abuse research, future career goals, and, if selected for the program, what research they prefer to conduct. The information also enables decision-making regarding which applicants will be selected for internships. In each case, completing the application is voluntary, but in order to receive due consideration, the prospective applicant must complete all fields required by the program.

OMB approval is requested for 3 years. There are no costs to respondents other than their time. The total estimated annualized burden hours are 300.

Estimated Annualized Burden Hours
Form name | Type of respondent | Number of respondents | Number of responses per respondent | Average burden per response (in hours) | Total annual burden hour
Summer Internship | Individuals—household | 300 | 1 | 1 | 300
Total |  |  | 300 |  | 300

Dated: December 20, 2022.
Lanette A. Palmquist,
Project Clearance Liaison, National Institute on Drug Abuse, National Institutes of Health.

[FR Doc. 2022-27990 Filed 12-22-22; 8:45 am]

BILLING CODE 4140-01-P